DEPARTMENT OF COMMERCE

National Oceanic and Atmospheric Administration

RIN 0648-XT45

Pacific Fishery Management Council; Public Meeting

AGENCY: National Marine Fisheries Service (NMFS), National Oceanic and Atmospheric Administration (NOAA), Commerce.

ACTION: Notice of a public meeting.

SUMMARY: The Pacific Fishery Management Council's (Council) Groundfish Management Team (GMT) will hold a working meeting, which is open to the public.

DATES: The GMT meeting will be held Monday, January 11, 2009 from 1 p.m. until business for the day is completed. The GMT meeting will reconvene Tuesday, January 12 through Friday, January 15, from 8:30 a.m. until business for each day is completed.

ADDRESSES: The GMT meeting will be held at the Pacific Fishery Management Council office, Large Conference Room, 7700 NE Ambassador Place, Suite 101, Portland, OR 97220-1384.

Council address: Pacific Fishery Management Council, 7700 NE Ambassador Place, Suite 101, Portland, OR 97220-1384.

FOR FURTHER INFORMATION CONTACT: Ms. Kelly Ames or Mr. John DeVore, Groundfish Management Coordinators; telephone: (503) 820-2280.

SUPPLEMENTARY INFORMATION: The purpose of the GMT working meeting is to (1) develop models and recommendations for analyzing harvest specifications and management measures for 2011-12 west coast groundfish fisheries and (2) review and further develop analyses relating to Amendment 23: annual catch limits and accountability measures. The GMT may also address other assignments relating to groundfish management. No management actions will be decided by the GMT. The GMT's role will be development of the environmental analyses and recommendations for consideration by the Council at its March meeting in Sacramento, CA and at its April meeting in Portland, OR.

Although non-emergency issues not contained in the meeting agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

This meeting is physically accessible to people with disabilities. Requests for sign language interpretation or other auxiliary aids should be directed to Ms. Carolyn Porter at (503) 820-2280 at least 5 days prior to the meeting date.

Dated: December 22, 2009.
Tracey L. Thompson,
Acting Director, Office of Sustainable Fisheries, National Marine Fisheries Service.

[FR Doc. E9-30612 Filed 12-24-09; 8:45 am]

BILLING CODE 3510-22-S